DEPARTMENT OF THE INTERIOR

Bureau of Land Management

[CO-910-07-7122-PN-C002]

Notice of Proposed Supplementary Rules for Public Land Administered by the Bureau of Land Management (BLM) in Colorado, Relating to Camping and Occupancy of Public Lands

AGENCY: Bureau of Land Management, Interior.

ACTION: Proposed supplementary rules for public lands within the State of Colorado.

SUMMARY: The Bureau of Land Management (BLM) is proposing these supplementary rules for public lands within the State of Colorado, relating to camping. These rules extend the time period and distance the camping public must move once the current 14-day stay limit is reached. These supplementary rules are needed to protect natural resources and provide for public health and safety. They are based upon existing regulations that address camping and residency, and update existing supplementary rules specific to camping stay limits. These supplementary rules further promote consistency between the BLM and similar rules of other natural resource agencies, including the U.S. Forest Service.

DATES: You should submit your comments by March 7, 2008.

ADDRESSES: You may submit comments by the following methods:

Mail or hand-delivery: Bureau of Land Management, Colorado State Office, 2850 Youngfield Street, Lakewood, Colorado 80215. Internet e-mail: http://www.co_proposed_rule@blm.gov (Include Attn: Dorothy Bensusan in your subject line).

FOR FURTHER INFORMATION CONTACT: State Staff Ranger Dorothy Bensusan, 303-239-3893 or dorothy_bensusan@blm.gov.

SUPPLEMENTARY INFORMATION:

I. Public Comment Procedures

You may mail or deliver comments to Bureau of Land Management, Colorado State Office, 2850 Youngfield Street, Lakewood, Colorado 80215.

You may also comment via the Internet to http://www.co_proposed_rule@blm.gov. Please also include your name and return address in your Internet message, and include “attn: Dorothy Bensusan.”

You also may comment via the Internet by accessing the Federal eRulemaking Portal at http://www.regulations.gov and following the instructions there.

Written comments on the proposed amended supplementary rules should be specific, confined to issues pertinent to the proposed amendments, and should explain the reason for any recommended change. Where possible, comments should reference the specific section or paragraph of the proposal that the comment addresses. The BLM may not necessarily consider or include in the Administrative Record for the supplementary rules comments that BLM receives after the close of the comment period (see DATES), unless they are postmarked or electronically dated before the deadline, or comments delivered to an address other than those listed above (See ADDRESSES).

Comments, including names, street addresses, and other contact information of respondents, will be available for public review at 2850 Youngfield Street, Lakewood, CO 80215, during regular business hours (7:45 a.m. to 3:45 p.m.), Monday through Friday, except Federal holidays. Before including your address, telephone number, e-mail address, or other personal identifying information in your comment, be advised that your entire comment—including your personal identifying information—may be made publicly available at any time. While you can ask in your comment to withhold from public review your personal identifying information, we cannot guarantee that we will be able to do so.

II. Discussion

The current camping stay limit was published in 1990, and while it limited occupancy of any location to 14 days, it only required departure for 7, or removal to a new location not less than 3 miles away. As a result, certain users have taken advantage of the existing language and established long term residency under the pretext of camping. Public concern about this unauthorized residential occupancy has necessitated that the BLM develop stronger regulations to address the issue. These uses often interfere with legitimate recreation use of public lands, create sanitation and other potential health concerns, cause damage to the resources by illegal campfire use, vegetation trampling, vehicle use, and trash dumping, and occasionally pose public dangers.

These regulations replace the statewide 14-Day Camping Limit established by the Colorado BLM through Federal Register notice issued April 11, 1990 (55 FR 13672). The amended language increases the distance campers must move after reaching the 14-day limit from 3 to 30 miles. These supplementary rules also require that once campers have camped for 14 consecutive days, they must move away from a particular location for at least 30 days before returning, rather than 7 days, as the existing rule provides. Additional language is included to limit the occurrence of unattended campsites which are being established for the purpose of securing campsite locations for later use. These supplementary rules apply to all the public lands within the State of Colorado. In keeping with the BLM's performance goal to reduce threats to public health, safety, and property, these rules are necessary to protect the natural resources, provide for safe public recreation and public health, reduce the potential for damage to the environment, and enhance the safety of public land users.

Individual Field Offices may issue separate regulations relating to camping and occupancy that are more, but not less, restrictive. This notice does not affect more restrictive camping limits that may already be in place for certain areas.

III. Procedural Information

Executive Order 12866, Regulatory Planning and Review

These supplementary rules are not a significant regulatory action and are not subject to review by the Office of Management and Budget under Executive Order 12866. The supplementary rules will not have an effect of $100 million or more on the economy. They are directed at preventing unlawful personal behavior on public lands, in order to protect public health and safety. They will not adversely affect, in a material way, the economy, productivity, competition, jobs, the environment, public health or safety, or state, local, or tribal governments or communities. The supplementary rules will not create a serious inconsistency or otherwise interfere with an action taken or planned by another agency. The supplementary rules do not alter the budgetary effects of entitlements, grants, user fees, or loan programs or the right or obligations of their recipients; nor do they raise novel legal or policy issues. The supplementary rules merely enable BLM law enforcement personnel to enforce regulations pertaining to unlawful occupancy and health, building, sanitation, and fire codes in a manner consistent with current Colorado state and county laws, where appropriate on public lands.

Regulatory Flexibility Act

Congress enacted the Regulatory Flexibility Act of 1980, as amended, 5 U.S.C. 601-612, (RFA) to ensure that Government regulations do not unnecessarily or disproportionately burden small entities. The RFA requires a regulatory flexibility analysis if a rule would have a significant economic impact, either detrimental or beneficial, on a substantial number of small entities. The proposed supplementary rules do not pertain specifically to commercial or governmental entities of any size, but contain rules to protect the health and safety of individuals, property, and resources on the public lands. Therefore, BLM has determined under the RFA that the proposed supplementary rules would not have a significant economic impact on a substantial number of small entities.

Small Business Regulatory Enforcement Fairness Act (SBREFA)

This supplementary rules do not constitute a “major rule” as defined at 5 U.S.C. 804(2). Again, the supplementary rules pertain only to individuals who may wish to occupy public lands for residential purposes or maintain, construct, place, occupy or use any structure in violation of state or county health, building, sanitation or fire codes. In this respect, the regulation of such use is necessary to protect the public lands and facilities and those, including small business concessionaires and outfitters, who use them. The supplementary rules have no effect on business, commercial, or industrial use of the public lands.

Unfunded Mandates Reform Act

These proposed supplementary rules do not impose an unfunded mandate on state, local or tribal governments or the private sector of more than $100 million per year; nor do these proposed supplementary rules have a significant or unique effect on state, local, or tribal governments or the private sector. The supplementary rules do not require anything of state, local, or tribal governments. Therefore, BLM is not required to prepare a statement containing the information required by the Unfunded Mandates Reform Act (2 U.S.C. 1531, et seq.)

Executive Order 12630, Governmental Actions and Interference with Constitutionally Protected Property Rights (Takings)

The proposed supplementary rules do not represent a government action capable of interfering with constitutionally protected property rights. The supplementary rules do not address property rights in any form, and do not cause the impairment of anyone's property rights. Therefore, the Department of the Interior has determined that the supplementary rules would not cause a taking of private property or require further discussion of takings implications under this Executive Order.

Executive Order 13132, Federalism

The supplementary rules will not have a substantial direct effect on the states, on the relationship between the national government and the states, or on the distribution of power and responsibilities among the various levels of government. The supplementary rules apply in only one state, Colorado, and do not address jurisdictional issues involving the Colorado State government. Therefore, in accordance with Executive Order 13132, BLM has determined that the supplementary rules do not have sufficient Federalism implications to warrant preparation of a Federalism Assessment.

Executive Order 13175, Consultation and Coordination with Indian Tribal Governments

In accordance with E.O. 13175, we have found that these proposed supplementary rules do not include policies that have tribal implications. Since the supplementary rules do not change BLM policy and do not involve Indian reservation lands or resources, we have determined that the government-to-government relationships should remain unaffected. The supplementary rules only prohibit the unauthorized occupancy of public lands and the unauthorized maintaining, construction, placing, occupying, or use of any structure in violation of any state and/or county health, building, sanitation, or fire code on public lands.

Executive Order 12988, Civil Justice Reform

Under Executive Order 12988, Colorado State Office of the BLM has determined that these proposed supplementary rules would not unduly burden the judicial system and that they meet the requirements of sections 3(a) and 3(b)(2) of the Order.

Paperwork Reduction Act

These proposed supplementary rules do not contain information collection requirements that the Office of Management and Budget must approve under the Paperwork Reduction Act of 1995, 44 U.S.C. 3501, et seq.

National Environmental Policy Act

The BLM has prepared an environmental assessment (EA) and has found that the proposed supplementary rules would not constitute a major Federal action significantly affecting the quality of the human environment under Section 102(2)(C) of the Environmental Protection Act of 1969 (NEPA), 42 U.S.C. 4332(2)(C). The supplementary rules will enable BLM law enforcement personnel to cite persons for unlawful camping, and the use of public land for residential purposes. The BLM has placed the EA and the Finding of No Significant Impact (FONSI) on file in the BLM Administrative Record at the address specified in the ADDRESSES section. The BLM invites the public to review these documents and suggests that anyone wishing to submit comments do so in accordance with the Public Comment Procedures section, above.

Executive Order 13211, Actions Concerning Regulations That Significantly Affect Energy Supply, Distribution, or Use

These proposed supplementary rules do not comprise a significant energy action. The supplementary rules will not have an adverse effect on energy supplies, production, or consumption. They only address unauthorized occupancy and violations of state or county health, building, sanitation or fire codes on public lands, and have no conceivable connection with energy policy.

Author

The principal author of these proposed supplementary rules is State Staff Ranger Dorothy Bensusan, Bureau of Land Management.

For the reasons stated in the Preamble, and under the authority for supplementary rules found under 43 CFR 8365.1-6, 43 CFR 8364.1, 43 U.S.C. 1740, 16 U.S.C. 670h(c)(5) and 43 U.S.C. 315a, the Colorado State Director, Bureau of Land Management, proposes to issue these supplementary rules for public lands managed by the BLM in Colorado, to read as follows:

Supplementary Rules for Colorado

Definitions

Camping: The erecting of a tent or shelter of natural or synthetic material, preparing a sleeping bag or other bedding material for use, parking of a motor vehicle, motor home or trailer, or mooring of a vessel, for the apparent purpose of overnight occupancy while engaged in recreational activities such as hiking, hunting, fishing, bicycling, sightseeing, off-road vehicle activities, or other generally recognized forms of recreation.

Campground: Any area specifically designated for overnight camping.

Developed Campgrounds: Campgrounds that have been improved specifically for camping purposes and may include designated campsites, delineated spaces, structures or improvements typically provided for camping purposes. These may include but are not limited to picnic tables, grills or fire rings, sanitary facilities, trash receptacles, potable water, controlled access, information kiosks, and user fees may be charged.

Day Use Area: Any areas open for public access only during daylight hours, typically between sunrise and sunset, or where specific hours of operation have been identified. Overnight use in these areas is specifically prohibited.

Designated Recreation Area: An area officially designated by official order or notice, or identified in planning documents for which the BLM has determined the resources require special management and control measures for resource protection.

Occupancy: Full or part-time residence on public lands for non-recreational purposes, such as temporary residence in connection with, or while seeking, employment in the vicinity, or because another permanent residence is not available. It also means activities that involve residence; the construction, presence, or maintenance of temporary or permanent structures that may be used for such purposes; or the use of a watchman or caretaker for the purpose of monitoring activities. Residence or structures include, but are not limited to, barriers to access, fences, tents, motor homes, trailers, cabins, houses, buildings, and storage of equipment or supplies.

Prohibited Acts

Unless otherwise authorized, the following acts are prohibited on public lands within Colorado:

A. Camping and Occupancy

1. You must not camp longer than 14 consecutive days at any one location on public land.

2. After the 14 days have been reached, you must not return to that location for 30 days, and/or you must move at least 30 air miles away from the previously occupied location.

3. You must not leave any personal property or refuse after vacating the campsite. This includes any property left for the purposes of use by another camper or occupant.

4. You must not leave personal property unattended in a day use area, campground, designated recreation area, or on any other public lands, for more than 24 hours.

5. You must not establish occupancy, take possession of, or otherwise use public lands for residential purposes except as allowed under 43 CFR 3715.2, 3715.2-1, 3715.5, 3715.6, or with prior written authorization from the BLM.

6. You must not block, restrict, place signs, or otherwise interfere with the use of a road, trail, gate or other legal access to and through public lands.

7. You must not camp in any area posted as closed to camping. Closure must be attained through a final land use planning decision, Federal Register notification, temporary closure order, or posting or positioning of a hazardous condition notice or barrier.

8. If a camping area charges fees, you must register and pay camping fees within 30 minutes of occupying any campsite.

9. Whenever camping in a developed campground or designated recreation area with established campsites, you must camp in a designated campsite.

B. Other Acts

You must not violate any state or county laws or regulations relating to public health, safety, sanitation, building or fire codes.

Exemptions: Persons who are exempt from these rules include: any Federal, state, or local officer or employee in the scope of their duties; members of any organized rescue or fire-fighting force in performance of an official duty; and any person authorized in writing by the Bureau of Land Management.

Penalties:

a. On public lands in grazing districts (see 43 U.S.C. 315a) and on public lands leased for grazing under 43 U.S.C. 315m, any person who violates any of these supplementary rules may be tried before a U.S. Magistrate and fined no more than $500.00. Such violations may also be subject to the enhanced fines provided for by 18 U.S.C. 3571.

b. On public lands subject to the Federal Lands Policy and Management Act of 1976, 43 U.S.C. 1701, et seq., any person who violates any of these supplementary rules may be tried before a U.S. Magistrate and fined no more than $1000 or imprisoned for no more than 12 months, or both. 43 U.S.C. 1733(a); 43 CFR 8360.07. Such violations may also be subject to the enhanced fines provided by 18 U.S.C. 3571.

Jamie E. Connell,
Acting State Director, Colorado.

[FR Doc. E8-2137 Filed 2-5-08; 8:45 am]

BILLING CODE 4310-JB-P